COMMISSION ON CIVIL RIGHTS

Sunshine Act Notice

AGENCY: United States Commission on Civil Rights.

ACTION: Notice of meeting.

DATES: Date and Time: Friday, July 30, 2010; 11:30 a.m. e.d.t.

Place: Via Teleconference. Public Dial In: 1-800-597-7623, Conference ID # 89174163.

Meeting Agenda

This meeting is open to the public, except where noted otherwise.

I. Approval of Agenda.

II. Program Planning.

• New Black Panther Party Enforcement Project.

• Consideration of Discovery Plan and Project Outline for Report on Sex Discrimination in Liberal Arts College Admissions.

• Timeline for Commissioner Statements and Rebuttals to HBCU and STEM Reports.

• Consideration of Vacancies on the Election Assistance Commission Board of Advisors.

III. Management and Operations.

• Submission of FY 2012 Budget Estimate to the Office of Management and Budget.

IV. Approval of March 12, April 16, May 14, May 28, June 11, June 25, and July 16 Meeting Minutes.

V. Adjourn.

FOR FURTHER INFORMATION CONTACT: Contact Person for Further Information: Lenore Ostrowsky, Acting Chief, Public Affairs Unit (202) 376-8591. TDD: (202) 376-8116.

Persons with a disability requiring special services, such as an interpreter for the hearing impaired, should contact Pamela Dunston at least seven days prior to the meeting at (202) 376-8105. TDD: (202) 376-8116.

Dated: July 20, 2010.
David Blackwood,
General Counsel.

[FR Doc. 2010-18132 Filed 7-20-10; 4:15 pm]

BILLING CODE 6335-01-P